FEDERAL MARITIME COMMISSION

Ocean Transportation Intermediary License Applicants

Notice is hereby given that the following applicants have filed with the Federal Maritime Commission an application for license as Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants:

Empire Container Line, Inc., 100 Route 37 East, Toms River, NJ 08753, Officer: Milton D'Souza, President (Qualifying Individual)

Multi-Link Container Line, LLC, 31-18 80th Street, E. Elmhurst, NY 11370, Officers: Tin Wai Chan, Vice President (Qualifying Individual), Alex K. F. Wu, President

MCL-Multi Container Line, Inc., dba Transpac Cargo Line, 3764 Oakhurst Way, Dublin, CA 94568, Officers: Harald Oechsner, Vice President (Qualifying Individual), Daniel Richner, President

Sea-Line Cargo, Inc., 135 Post Avenue, New York, NY 10034, Officer: Edickson Burgos, President (Qualifying Individual)

Non-Vessel Operating Common Carrier and Ocean Freight Forwarder Transportation Intermediary Applicants:

Uni Logistics, Inc., 630 South Glasgow Avenue, Inglewood, CA 90301, Officers: John Park, President (Qualifying Individual) Soo Kim, Secretary

Washington Movers, Inc., 8210 Cinderhed Road, #3, Lorton, VA 22079, Officer: Sam Ghanem, President (Qualifying Individual)

U.S. Sea Wave Express, Inc., 2931 Plaza Del Amo, #74, Torrance, CA 90503, Officers: Xiaoman Hu, Vice President (Qualifying Individual) Weishan Hou, President

Seaspeed Overseas Shipping Co., Inc., 69 La Fante Lane, Bayonne, NJ 07002, Officer: John Trimarchi, Director

Japan Star America, 21906 Arnold Center Road, Carson, CA 90810, Yuni Kim Pearson, Director Sole Proprietor

Nationwide Forwarding, Inc., 48 Ridge Drive, Montville, NJ 07045, Officers: Charles A. Kadets, Vice President (Qualifying Individual) Michele Della Valle, President

Wice Logistics USA, Inc., 177-15 149th Road, Jamaica, NY 11434, Officers: Stan kwai-wah Chu, Vice President (Qualifying Individual) Paul Dunn, President

Trans Pacific Logistics LLC, 9911 Inglewood Avenue, Inglewood, CA 90301, Officers: Gary Dorian, Vice President (Qualifying Individual) Roscoe Jones, President

Ocean Freight Forwarder—Ocean Transportation Intermediary Applicants:

Actionfreight Int'l Inc., 11034 La Cienega Blvd., Inglewood, CA 90304, Officer: Natalie Dix, Owner (Qualifying Individual)

Dated: March 8, 2002.
Bryant L. VanBrakle,
Secretary.

[FR Doc. 02-6080 Filed 3-12-02; 8:45 am]

BILLING CODE 6730-01-P